DEPARTMENT OF THE INTERIOR

National Park Service

[N6689; NPS-WASO-NAGPRA-NPS0041429; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), The University of Tennessee, Knoxville, Department of Anthropology (UTK), has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Dr. Ellen Lofaro, University of Tennessee (UTK), Office of Repatriation, 5723 Middlebrook Pike, Knoxville, TN 37996, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, 100 individuals have been identified. The four lots of associated funerary objects are one lot of ceramic sherds, one lot of fauna and shell, one lot of lithics, and one lot of objects placed with or near human remains. These individuals and objects were recovered from the Carrigan or Gigen's Cemetery site (40MT33) in Montgomery County, TN, by Paul Eden and H.C. “Buddy” Brehm with Southeastern Indian Antiquities Survey (SIAS) in September 1974. This site dates to the Mississippian Period, ~1000-1450 CE. These individuals and objects were transferred to UTK in 1975 for examination and retained.

Human remains representing, at least, one individual has been identified. The two lots of associated funerary objects are two lots of objects placed with or near human remains. This individual and objects were recovered from Coleman Cave (40MT16) in Montgomery County, TN. One individual and one lot of objects were discovered at UTK as part of the McIlhaney Collection in July 2024. The circumstances of recovery and what brought this individual and objects to UTK are currently unknown. The second lot of objects were donated by an unknown caver to the Cave Archaeology Reasearch Team project directed by Jan Simek at UTK likely in the 1990s. This cave site dates from the Archaic to Mississippian periods.

Human remains representing, at least, one individual has been identified. No associated funerary objects are present. This individual was recovered by the Montgomery County Sheriff's Office from an unknown location in Montgomery County and sent to the UTK Forensic Anthropology Center (FAC) in August of 1983 for examination. After FAC staff determined that the individual was Native American, and not of medicolegal concern, they were retained by the FAC as case 83-18. They remained at the FAC until they were recently transferred to the UTK Office of Repatriation.

To our knowledge, no potentially hazardous substances have been used to treat any of the Ancestral remains or associated funerary objects.

Cultural Affiliation

Based on the information available and the results of consultation, cultural affiliation is clearly identified by the information available about the human remains and associated funerary objects described in this notice.

Determinations

UTK has determined that:

• The human remains described in this notice represent the physical remains of 102 individuals of Native American ancestry.

• The six lots of objects described in this notice are reasonably believed to have been placed intentionally with or near individual human remains at the time of death or later as part of the death rite or ceremony.

• There is a connection between the human remains and associated funerary objects described in this notice and the Cherokee Nation; Eastern Band of Cherokee Indians; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, UTK must determine the most appropriate requestor prior to repatriation. Requests for joint repatriation of the human remains and associated funerary objects are considered a single request and not competing requests. UTK are responsible for sending a copy of this notice to the Indian Tribes and Native Hawaiian organizations identified in this notice.

Authority: Native American Graves Protection and Repatriation Act, 25 U.S.C. 3003, and the implementing regulations, 43 CFR 10.10.

Dated: November 24, 2025.
Melanie O'Brien,
Manager, National NAGPRA Program.

[FR Doc. 2025-23041 Filed 12-16-25; 8:45 am]

BILLING CODE 4312-52-P